SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before May 19, 2003.

ADDRESSES: Send all comments regarding whether these information collections are necessary for the proper performance of the function of the agency, whether the burden estimate are accurate, and if there are ways to minimize the estimated burden and enhance the quality of the collections, to Sandra Johnston, Program Analyst, Office of Financial Assistance, Small Business Administration, 409 3rd Street SW., Suite 8300, Washington, DC 20416.

FOR FURTHER INFORMATION CONTACT: Sandra Johnston, Program Analyst, (202) 205-7528 or Curtis B. Rich, Management Analyst, (202) 205-7030.

SUPPLEMENTARY INFORMATION:

Title: “Reporting and Recordkeeping Requirements on Small Business Lending Companies—13 CFR 120-302”.

Form No: N/A.

Description of Respondents: Small Business Lending Companies.

Annual Responses: 2,400.

Annual Burden: 2,400.

SUPPLEMENTARY INFORMATION: Title: “Statement of Personal History”.

Form No: 1081.

Description of Respondents: Certified Development Companies.

Annual Responses: 300.

Annual Burden: 75.

ADDRESSES: Send all comments regarding whether this information collection is necessary for the proper performance of the function of the agency, whether the burden estimate is accurate, and if there are ways to minimize the estimated burden and enhance the quality of the collection, to Charles George, Deputy Assistant Administrator, Office of Government Contracting & Business Development, Small Business Administration, 409 3rd Street SW., Suite 8000, Washington, DC 20416.

FOR FURTHER INFORMATION CONTACT: Charles George, Deputy Assistant Administrator, 202-401-2899 or Curtis B. Rich, Management Analyst, (202) 205-7030.

SUPPLEMENTARY INFORMATION:

Title: “8(a) Annual Update”.

Form No: 1450.

Description of Respondents: 8(a) Program Participants.

Annual Responses: 5,000.

Annual Burden: 13,000.

Jacqueline White,
Chief, Administrative Information Branch.

[FR Doc. 03-6488 Filed 3-18-03; 8:45 am]

BILLING CODE 8025-01-P